INTERNATIONAL TRADE COMMISSION

[Investigation No. 337-TA-1055]

Certain Mirrors With Internal Illumination and Components Thereof Issuance of a Limited Exclusion Order and Cease and Desist Order Directed Against the Defaulting Respondent; Termination of Investigation

AGENCY: U.S. International Trade Commission.

ACTION: Notice.

SUMMARY: Notice is hereby given that the U.S. International Trade Commission has terminated the above-captioned investigation under section 337 of the Tariff Act of 1930, as amended, and has issued a limited exclusion order directed against infringing products of the respondent Project Light, LLC (d/b/a Project Light, Inc., Prospetto Light, LLC, and/or Prospetto Lighting, LLC) of Stow, Ohio (“Project Light” or “the defaulting respondent”) previously found in default. The Commission has also issued a cease and desist order directed against the defaulting respondent.

FOR FURTHER INFORMATION CONTACT: Clint Gerdine, Esq., Office of the General Counsel, U.S. International Trade Commission, 500 E Street SW, Washington, DC 20436, telephone (202) 708-2310. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 8, 2017, based on a complaint filed by Electric Mirror, LLC of Everett, Washington (“Electric Mirror”) and Kelvin 42 LLC of Pensacola, Florida (“Kelvin”). 82 FR 21405-06. The complaint, as amended, alleges violations of section 337 of the Tariff Act of 1930, as amended, 19 U.S.C. 1337, by reason of infringement of certain claims of U.S. Patent Nos. 7,853,414 (“the '414 patent”) and 7,559,668 (“the '668 patent”). The complaint further alleged the existence of a domestic industry. The Commission's notice of investigation named as respondents Project Light; Lumidesign Inc. of Ontario, Canada (“Lumidesign”); and Majestic Mirrors & Frame, LLC of Miami, Florida (“Majestic”). The complaint and notice of investigation were served on all respondents. See Notice of Investigation, Certificate of Service (May 2, 2017) (EDIS Document 610362). The Office of Unfair Import Investigations did not participate in the investigation.

On July 10, 2017, the Commission determined not to review an initial determination (“ID”) (Order No. 6) issued by the presiding administrative law judge (“ALJ”) terminating the investigation as to complainant Kelvin, respondent Majestic, and the '668 patent based on withdrawal of those allegations in the complaint. On July 27, 2017, the Commission determined not to review the ALJ's ID (Order No. 8) terminating the investigation as to Lumidesign based on a settlement agreement.

On August 3, 2017, the ALJ issued an ID (Order No. 10) finding Project Light in default, pursuant to 19 CFR 210.16, because this respondent did not respond to the complaint and notice of investigation, or to Order No. 9 to show cause why it should not be found in default. On August 22, 2017, the Commission determined not to review the ID finding Project Light in default. The Commission found that the statutory requirements of section 337(g)(1)(A)-(E) (19 U.S.C. 1337(g)(1)(A)-(E)) were met with respect to Project Light. Accordingly, pursuant to section 337(g)(1) (19 U.S.C. 1337(g)(1)) and Commission rule 210.16(c) (19 CFR 210.16(c)), the Commission presumed the facts alleged in the complaint to be true.

On the same date, the Commission requested public briefing on remedy, the public interest, and bonding with respect to Project Light. 82 FR 43252-54 (Sept. 14, 2017). On September 5, 2017, Electric Light submitted responsive briefing including a proposed limited exclusion order directed to the covered products of Project Light and a cease and desist order directed to the defaulting respondent.

The Commission has determined that the appropriate form of relief includes a limited exclusion order prohibiting the unlicensed entry of mirrors with internal illumination and components thereof that infringe one or more of claims 9 and 18 of the '414 patent, which are manufactured abroad by or on behalf of, or are imported by or on behalf of, Project Light, or any of its affiliated companies, parents, subsidiaries, licensees, contractors, or other related business entities, or their successors or assigns. Appropriate relief also includes a cease and desist order prohibiting Project Light from conducting any of the following activities in the United States: importing, selling, marketing, advertising, distributing, offering for sale, transferring (except for exportation), and soliciting U.S. agents or distributors for mirrors with internal illumination and components thereof that infringe one or more of claims 9 and 18 of the '414 patent. See Certain Electric Skin Care Devices, Brushes and Chargers Therefor, and Kits Containing the Same, Inv. No. 337-TA-959, Comm'n Op. (Feb. 13, 2017) (public version) (including Chairman Schmidtlein Separate views on issuing cease and desist orders governed by section 337(g)(1)).

The Commission has further determined that the public interest factors enumerated in sections 337(d), (f), and (g)(1) (19 U.S.C. 1337(d), (f), and (g)(1)) do not preclude issuance of the limited exclusion order or the cease and desist order. Finally, the Commission has determined that a bond in the amount of 100 percent of the entered value of the covered products is required to permit temporary importation during the period of Presidential review (19 U.S.C. 1337(j)). The Commission's orders were delivered to the President and to the United States Trade Representative on the day of their issuance.

The Commission has terminated this investigation. The authority for the Commission's determination is contained in section 337 of the Tariff Act of 1930, as amended, 19 U.S.C. 1337, and in part 210 of the Commission's Rules of Practice and Procedure, 19 CFR part 210.

By order of the Commission.
Issued: January 19, 2018.
Lisa R. Barton,
Secretary to the Commission.

[FR Doc. 2018-01318 Filed 1-24-18; 8:45 am]

BILLING CODE 7020-02-P